DEPARTMENT OF COMMERCE

Foreign-Trade Zones Board

[B-63-2023]

Foreign-Trade Zone (FTZ) 17; Authorization of Production Activity; Panasonic Energy Corporation of North America; (Lithium-Ion Battery Cells); De Soto, Kansas

On December 11, 2023, Panasonic Energy Corporation of North America submitted a notification of proposed production activity to the FTZ Board for its facility within Subzone 17F, in De Soto, Kansas.

The notification was processed in accordance with the regulations of the FTZ Board (15 CFR part 400), including notice in the Federal Register inviting public comment (88 FR 87403, December 18, 2023). On April 9, 2024, the applicant was notified of the FTZ Board's decision that no further review of the activity is warranted at this time. The production activity described in the notification was authorized, subject to the FTZ Act and the FTZ Board's regulations, including section 400.14.

Dated: April 9, 2024.
Elizabeth Whiteman,
Executive Secretary.

[FR Doc. 2024-07827 Filed 4-11-24; 8:45 am]

BILLING CODE 3510-DS-P